FEDERAL HOUSING FINANCE AGENCY

[No. 2011-N-03]

Privacy Act of 1974; System of Records

AGENCY: Office of Inspector General, Federal Housing Finance Agency.

ACTION: Notice of the Revision and Establishment of Privacy Act Systems of Records.

SUMMARY: In accordance with the Privacy Act of 1974, as amended, the Office of Inspector General of the Federal Housing Finance Agency (FHFA-OIG) gives notice of the revision of an existing system of records. FHFA-OIG is revising the legacy system of records entitled FHFB-6, “Office of Inspector General Audit and Investigative Records,” by dividing it into four separate systems of records: “FHFA-OIG Audit Files Database,” “FHFA-OIG Investigative & Evaluative Files Database,” “FHFA-OIG Investigative & Evaluative MIS Database,” and “FHFA-OIG Hotline Database.” These four systems and the routine uses for each are described in detail below.

FHFA-OIG also gives notice of the establishment of an additional Privacy Act system of records, for a total of five FHFA-OIG-specific systems of records. This new system of records is the following: “FHFA-OIG Correspondence Database.”

DATES: Comments must be received by April 1, 2011. The proposed new systems of records will become effective April 8, 2011, unless comments are received which would result in a contrary determination.

ADDRESSES: Submit comments to FHFA only once, identified by “FHFA-OIG SORN,” using any one of the following methods:

• E-mail: Bryan.Saddler@fhfa.gov. Comments may be sent by e-mail to Bryan Saddler, FHFA-OIG Chief Counsel. Please include “Comments/FHFA-OIG SORN” in the subject line of the message. Comments will be made available for inspection upon written request.

• Federal eRulemaking Portal: http://www.regulations.gov. Follow the instructions for submitting comments. If you submit your comment to the Federal eRulemaking Portal, please also send it by e-mail to FHFA at Bryan.Saddler@fhfa.gov to ensure timely receipt by the agency. Please include “Comments/FHFA-OIG SORN” in the subject line of the message.

• Courier/Hand Delivery: Bryan Saddler, Chief Counsel, Office of Inspector General, Federal Housing Finance Agency, 1625 Eye Street, NW., Washington, DC 20006. Log hand delivered packages at the Guard Desk, Fourth Floor, on business days between 9 a.m. and 5 p.m.

• U.S. Mail, United Parcel Service, Federal Express, or Other Mail Service: Bryan Saddler, Chief Counsel, Office of Inspector General, Federal Housing Finance Agency, 1625 Eye Street, NW., Washington, DC 20006.

See SUPPLEMENTARY INFORMATION for additional information on posting of comments.

FOR FURTHER INFORMATION CONTACT: Bryan Saddler, Chief Counsel, Office of Inspector General, (202) 408-2577, Federal Housing Finance Agency, 1625 Eye Street, NW., Washington, DC 20006.The telephone number for the Telecommunications Device for the Deaf is 800-877-8339.

SUPPLEMENTARY INFORMATION:

I. Comments

Posting and Public Availability of Comments: All comments received will be posted without change on the FHFA Web site at http://www.fhfa.gov, and will include any personal information provided.

II. Background

The Federal Housing Finance Regulatory Reform Act of 2008 (“Reform Act”), which was passed as Division A of the Housing and Economic Recovery Act of 2008 (“HERA”), Public Law 110-289, 122 Stat. 2654, 2913, abolished both the Federal Housing Finance Board (“FHFB”), an independent agency that oversaw the Federal Home Loan Banks (“FHLBanks”), and the Office of Federal Housing Enterprise Oversight (“OFHEO”), an office within the Department of Housing and Urban Development (“HUD”) that oversaw the “safety and soundness” of the Federal Home Loan Mortgage Corporation (“Freddie Mac”) and the Federal National Mortgage Association (“Fannie Mae”). See 12 U.S.C. 1422a, 4502(6), 4511, 4512, 4513, 4541, 4563 (2006); H.R. Rep. No. 110-142, at 95. The Reform Act established in place of the FHFB and OFHEO a new entity, the Federal Housing Finance Agency (“FHFA”), which now regulates and supervises Fannie Mae, Freddie Mac, and the 12 FHLBanks. See Reform Act sections 1002, 1101, 1102 and 1311; 12 U.S.C. 4511 (2009).

Section 1105 of HERA also amended the Federal Housing Enterprises Financial Safety and Soundness Act of 1992 and the Inspector General Act of 1978 (the “IG Act”), by specifying that there shall be established an Inspector General within FHFA (“FHFA-OIG”). See 12 U.S.C. 4517(d). FHFA-OIG is responsible for, among other things, conducting audits, investigations, and inspections of FHFA's programs and operations; recommending polices that promote economy and efficiency in the administration of FHFA's programs and operations; and preventing and detecting fraud and abuse in FHFA's programs and operations.

By Federal Register notice dated October 17, 2006, the FHFB revised an existing system of records to establish a system of records designated FHFB-6, “Office of Inspector General Audit and Investigative Records.” 71 FR 61052 (2006). As noted above, FHFA-OIG plans to amend FHFB-6 to establish the following four systems of records:

FHFA-OIG-1: FHFA-OIG Audit Files Database.

FHFA-OIG-2: FHFA-OIG Investigative & Evaluative Files Database.

FHFA-OIG-3: FHFA-OIG Investigative & Evaluative MIS Database.

FHFA-OIG-4: FHFA-OIG Hotline Database.

FHFA-OIG also plans to establish the following new system of records.

FHFA-OIG-5: FHFA-OIG Correspondence Database.

Sections 552a(e)(4) and (11) of title 5, United States Code, require that an agency publish a notice of the establishment or revision of a record system which affords the public a 30-day period in which to submit comments. To meet this requirement, descriptions of the proposed systems of records follow. Further, a report of FHFA-OIG's intention to establish these systems of records has been submitted to the Committee on Oversight and Government Reform of the House of Representatives, the Committee on Homeland Security and Governmental Affairs of the Senate, and to the Office of Management and Budget (“OMB”), pursuant to paragraph 4c of Appendix I of OMB Circular A-130, which is entitled “Federal Agency Responsibilities for Maintaining Records About Individuals,”dated February 8, 1996 (February 20, 1996; 61 FR 6427, 6435). The proposed new systems of records described above are set forth in their entirety below.

FHFA-OIG-1

system name:

FHFA-OIG Audit Files Database.

security classification:

Sensitive but unclassified.

system location:

This system of records is located on a computer system owned and administered by FHFA. FHFA-OIG may transfer this system of records to a stand-alone, physically secure FHFA-OIG computer system.

categories of individuals covered by the system:

Auditors, certain administrative support staff, contractors of FHFA-OIG, and certain subjects and/or witnesses referenced in FHFA-OIG's audit activities.

categories of records in the system:

(1) Audit reports; and (2) working papers, which may include copies of correspondence, evidence, subpoenas, other documents collected and/or generated by the Audit Division during the course of official duties.

authority for maintenance of the system:

The system is established and maintained pursuant to 12 U.S.C. 4517(d), 5 U.S.C. App. 3, and 5 U.S.C. 301.

purpose(s):

This system is maintained in order to act as a management information system for FHFA-OIG audit projects and personnel and to assist in the accurate and timely conduct of audits.

routine uses of records maintained in the system, including categories of users and the purposes of such uses:

These records may be used to:

(1) Disclose pertinent information to appropriate Federal, foreign, State, local, Tribal or other public authorities or self-regulatory organizations responsible for investigating or prosecuting the violations of, or for enforcing or implementing, a statute, rule, regulation, order, or license, where the disclosing agency becomes aware of an indication of a violation or potential violation of civil or criminal law or regulation;

(2) Disclose information to a court, magistrate, or administrative tribunal in the course of presenting evidence, including disclosures to opposing counsel or witnesses in the course of civil discovery, litigation, or settlement negotiations, in response to a subpoena, or in connection with criminal law proceedings;

(3) Provide information to a congressional office in response to an inquiry made at the request of the individual to whom the record pertains;

(4) Disclose information to another Federal agency to (a) permit a decision as to access, amendment or correction of records to be made in consultation with or by that agency, or (b) verify the identity of an individual or the accuracy of information submitted by an individual who has requested access to or amendment or correction of records;

(5) Disclose information to the Department of Justice when seeking legal advice, or when (a) the agency or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(6) Disclose information to the appropriate foreign, State, local, Tribal, or other public authority or self-regulatory organization for the purpose of (a) consulting as to the propriety of access to or amendment or correction of information obtained from that authority or organization, or (b) verifying the identity of an individual who has requested access to or amendment or correction of records;

(7) Disclose information to contractors and other agents who have been engaged by FHFA-OIG or one of its components to provide products or services associated with FHFA-OIG's or component's responsibility arising under the Freedom of Information Act/Privacy Act (FOIA/PA);

(8) Disclose information to the National Archives and Records Administration for use in records management inspections;

(9) Disclose information to appropriate agencies, entities, and persons when (1) FHFA-OIG suspects or has confirmed that the security or confidentiality of information in the system of records has been compromised; (2) FHFA-OIG has determined that as a result of the suspected or confirmed compromise there is a risk of harm to economic or property interests, identity theft or fraud, or harm to the security or integrity of this system or other systems or programs (whether maintained by FHFA-OIG or another agency or entity) that rely upon the compromised information; and (3) the disclosure made to such agencies, entities, and persons is reasonably necessary to assist in connection with FHFA-OIG's efforts to respond to the suspected or confirmed compromise and prevent, minimize, or remedy such harm;

(10) Disclose information to any source, either private or governmental, to the extent necessary to elicit information relevant to an FHFA-OIG audit, evaluation, or investigation;

(11) Disclose information to the Equal Employment Opportunity Commission, Merit Systems Protection Board, arbitrators, and other parties responsible for processing personnel actions or conducting administrative hearings or appeals, or if needed in the performance of other authorized duties;

(12) In situations involving an imminent danger of death or physical injury, disclose relevant information to an individual or individuals who are in danger; and

(13) Disclose information to persons engaged in conducting and reviewing internal and external peer reviews of FHFA-OIG to ensure adequate internal safeguards and management procedures exist within any office that had received law enforcement authorization or to ensure auditing standards applicable to Government audits by the Comptroller General of the United States are applied and followed.

disclosure to consumer reporting agencies:

None.

policies and practice for storing, retrieving, accessing, retaining and disposing of records in the system:

storage:

Paper records and electronic media.

retrievability:

By name of the auditor, support staff, contractors, or subject of the audit.

Safeguards:

The records are accessible to FHFA-OIG personnel, all of whom have been the subject of background investigations, on a need-to-know basis. Disclosure of information through remote terminals is restricted through the use of passwords and sign-on protocols, which are periodically changed; these terminals are accessible only to authorized persons. Paper records are maintained in locked facilities and/or cabinets with restricted access.

retention and disposal:

Records in this system will be retained in accordance with approved retention schedules, including: (1) Audit Reports File (N1-485-08-2, item 17), which provides for annual cut-off and for destruction 10 years after cut-off; and (2) Audit Workpapers (N1-485-08-2, item 2), which provides for annual cut-off and for destruction 6 years and 3 months after cut-off. Additional approved schedules may apply. Destruction of records shall occur in the manner(s) appropriate to the type of record, such as shredding of paper records and/or deletion of computer records.

system manager(s) and address:

Chief Counsel, Office of Inspector General, Federal Housing Finance Agency, 1625 Eye Street, NW., Washington, DC 20006.

notification procedures:

Individuals seeking notification and access to any record contained in this system of records, or seeking to contest its content, may inquire in writing in accordance with instructions appearing at 12 CFR 1202.5. This system of records may contain records that are exempt from the notification, access, and contesting records requirements pursuant to the provisions of 5 U.S.C. 552a(j)(2) and (k)(2).

record access procedures:

See “Notification Procedures” above.

contesting record procedures:

See “Notification Procedures” above.

record source categories:

Some records contained within this system of records are exempt from the requirement that the record source categories be disclosed pursuant to the provisions of 5 U.S.C. 552a(j)(2) and (k)(2).

exemptions claimed for the system:

Some records contained within this system of records are exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). FHFA is in the process of publishing an updated Privacy Act regulation at 12 CFR part 1204 that will implement (j)(2) and (k)(2) exemptions to cover FHFA-OIG records. Upon publication of this revised Privacy Act Regulation, these exemptions are hereby incorporated by reference and are an integral part of this SORN.

FHFA-OIG-2

system name:

FHFA-OIG Investigative & Evaluative Files Database.

security classification:

Sensitive but unclassified.

system location:

This system of records will be maintained on a stand-alone, physically secure FHFA-OIG computer system.

categories of individuals covered by the system:

Subjects or potential subjects of investigative or evaluative activities; witnesses involved in investigative or evaluative activities.

categories of records in the system:

(1) Reports of investigations, which may include, but are not limited to, witness statements, affidavits, transcripts, police reports, photographs, documentation concerning requests and approval for consensual telephone and consensual non-telephone monitoring, the subject's prior criminal record, vehicle maintenance records, medical records, accident reports, insurance policies, police reports, and other exhibits and documents collected during an investigation; (2) status and disposition information concerning a complaint or investigation including prosecutive action and/or administrative action; (3) complaints or requests to investigate; (4) subpoenas and evidence obtained in response to a subpoena; (5) evidence logs; (6) pen registers; (7) correspondence; (8) records of seized money and/or property; (9) reports of laboratory examination, photographs, and evidentiary reports; (10) digital image files of physical evidence; (11) documents generated for purposes of FHFA-OIG's undercover activities; (12) documents pertaining to the identity of confidential informants; and, (13) other documents collected and/or generated by the Investigations Division and/or the Evaluations Division during the course of official duties.

authority for maintenance of the system:

The system is established and maintained pursuant to 12 U.S.C. 4517(d), 5 U.S.C. App. 3, and 5 U.S.C. 301.

Purpose(s):

The purpose of this system of records is to maintain information relevant to complaints received by FHFA-OIG and collected as part of investigations conducted by FHFA-OIG's Investigations Division and/or evaluations conducted by FHFA-OIG's Evaluations Division.

routine uses of records maintained in the system, including categories of users and the purposes of such uses:

These records may be used to:

(1) Disclose pertinent information to appropriate Federal, foreign, State, local, Tribal or other public authorities or self-regulatory organizations responsible for investigating or prosecuting the violations of, or for enforcing or implementing, a statute, rule, regulation, order, or license, where the disclosing agency becomes aware of an indication of a violation or potential violation of civil or criminal law or regulation;

(2) Disclose information to a court, magistrate, or administrative tribunal in the course of presenting evidence, including disclosures to opposing counsel or witnesses in the course of civil discovery, litigation, or settlement negotiations, in response to a subpoena, or in connection with criminal law proceedings;

(3) Provide information to a congressional office in response to an inquiry made at the request of the individual to whom the record pertains;

(4) Disclose information to another Federal agency to (a) permit a decision as to access, amendment or correction of records to be made in consultation with or by that agency, or (b) verify the identity of an individual or the accuracy of information submitted by an individual who has requested access to or amendment or correction of records;

(5) Disclose information to the Department of Justice when seeking legal advice, or when (a) the agency or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(6) Disclose information to the appropriate foreign, State, local, Tribal, or other public authority or self-regulatory organization for the purpose of (a) consulting as to the propriety of access to or amendment or correction of information obtained from that authority or organization, or (b) verifying the identity of an individual who has requested access to or amendment or correction of records;

(7) Disclose information to contractors and other agents who have been engaged by FHFA-OIG or one of its components to provide products or services associated with FHFA-OIG's or component's responsibility arising under the FOIA/PA;

(8) Disclose information to the National Archives and Records Administration for use in records management inspections;

(9) Disclose information to appropriate agencies, entities, and persons when (1) FHFA-OIG suspects or has confirmed that the security or confidentiality of information in the system of records has been compromised; (2) FHFA-OIG has determined that as a result of the suspected or confirmed compromise there is a risk of harm to economic or property interests, identity theft or fraud, or harm to the security or integrity of this system or other systems or programs (whether maintained by FHFA-OIG or another agency or entity) that rely upon the compromised information; and (3) the disclosure made to such agencies, entities, and persons is reasonably necessary to assist in connection with FHFA-OIG's efforts to respond to the suspected or confirmed compromise and prevent, minimize, or remedy such harm;

(10) Disclose information to any source, either private or governmental, to the extent necessary to elicit information relevant to an FHFA-OIG audit, evaluation, or investigation;

(11) Disclose information to the Equal Employment Opportunity Commission, Merit Systems Protection Board, arbitrators, and other parties responsible for processing personnel actions or conducting administrative hearings or appeals, or if needed in the performance of other authorized duties;

(12) In situations involving an imminent danger of death or physical injury, disclose relevant information to an individual or individuals who are in danger; and

(13) Disclose information to persons engaged in conducting and reviewing internal and external peer reviews of FHFA-OIG to ensure adequate internal safeguards and management procedures exist within any office that had received law enforcement authorization or to ensure auditing standards applicable to Government audits by the Comptroller General of the United States are applied and followed.

DISCLOSURE TO CONSUMER REPORTING AGENCIES:

None.

POLICIES AND PRACTICE FOR STORING, RETRIEVING, ACCESSING, RETAINING AND DISPOSING OF RECORDS IN THE SYSTEM:

STORAGE:

Paper records and electronic media.

RETRIEVABILITY:

By name, Social Security Number, and/or case number.

SAFEGUARDS:

The records are accessible to FHFA-OIG personnel, all of whom have been the subject of background investigations, on a need-to-know basis. Disclosure of information through remote terminals is restricted through the use of passwords and sign-on protocols, which are periodically changed; these terminals are accessible only to authorized persons. Paper records are maintained in locked facilities and/or cabinets with restricted access.

RETENTION AND DISPOSAL:

Records in this system will be retained in accordance with approved retention schedules, including: (1) Chronological File (N1-485-08-2, Item 5), which provides for annual cut-off and for destruction 5 years after cut-off; (2) Inspector General Community Operational Guidance (N1-485-08-2, Item 16), which provides for annual cut-off and for destruction 3 years after cut-off; (3) Grand Jury (6e) Files (N1-485-08-2, Item 14), which provides for cut-off when case is closed, then retention in a segregated, locked file for 20 years thereafter; (4) Investigation Case Files (N1-485-94-1, Item 3.8), which provides for cutting off inactive files at the end of the fiscal year, and for destruction 10 years after cut-off; (5) Non-FHFA Offices' Correspondence (GRS 23, item 1), which permits destruction after 2 years; and (6) FHFA Offices' Correspondence (N1-485-94-1, Item 3.6), which provides for annual cut-off, and for destruction when no longer needed. Additional approved schedules may apply. Destruction of records shall occur in the manner(s) appropriate to the type of record, such as shredding of paper records and/or deletion of computer records.

SYSTEM MANAGER(S) AND ADDRESS:

Chief Counsel, Office of Inspector General, Federal Housing Finance Agency, 1625 Eye Street NW., Washington, DC 20006.

NOTIFICATION PROCEDURES:

Individuals seeking notification and access to any record contained in this system of records, or seeking to contest its content, may inquire in writing in accordance with instructions appearing at 12 CFR 1202.5. This system of records may contain records that are exempt from the notification, access, and contesting records requirements pursuant to the provisions of 5 U.S.C. 552a(j)(2) and (k)(2).

RECORD ACCESS PROCEDURES:

See “Notification Procedures” above.

CONTESTING RECORD PROCEDURES:

See “Notification Procedures” above.

RECORD SOURCE CATEGORIES:

Some records contained within this system of records are exempt from the requirement that the record source categories be disclosed pursuant to the provisions of 5 U.S.C. 552a(j)(2) and (k)(2).

EXEMPTIONS CLAIMED FOR THE SYSTEM:

Some records contained within this system of records are exempt from 5 U.S.C. 552a (c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a (j)(2) and (k)(2). FHFA is in the process of publishing an updated Privacy Act regulation at 12 CFR Part 1204 that will implement (j)(2) and (k)(2) exemptions to cover FHFA-OIG records. Upon publication of this revised Privacy Act Regulation, these exemptions are hereby incorporated by reference and are an integral part of this SORN.

FHFA-OIG-3

SYSTEM NAME:

FHFA-OIG Investigative & Evaluative MIS Database.

SECURITY CLASSIFICATION:

Sensitive but unclassified.

SYSTEM LOCATION:

This system of records will be maintained on a stand-alone, physically secure FHFA-OIG computer system.

CATEGORIES OF INDIVIDUALS COVERED BY THE SYSTEM:

Subjects or potential subjects of investigative or evaluative activities; witnesses involved in investigative or evaluative activities.

CATEGORIES OF RECORDS IN THE SYSTEM:

(1) Reports of investigations, which may include, but are not limited to, witness statements, affidavits, transcripts, police reports, photographs, documentation concerning requests and approval for consensual telephone and consensual non-telephone monitoring, the subject's prior criminal record, vehicle maintenance records, medical records, accident reports, insurance policies, police reports, and other exhibits and documents collected during an investigation; (2) status and disposition information concerning a complaint or investigation including prosecutive action and/or administrative action; (3) complaints or requests to investigate; (4) subpoenas and evidence obtained in response to a subpoena; (5) evidence logs; (6) pen registers; (7) correspondence; (8) records of seized money and/or property; (9) reports of laboratory examination, photographs, and evidentiary reports; (10) digital image files of physical evidence; (11) documents generated for purposes of FHFA-OIG's undercover activities; (12) documents pertaining to the identity of confidential informants; and, (13) other documents collected and/or generated by the InvestigationsDivision and/or the Evaluations Division during the course of official duties.

AUTHORITY FOR MAINTENANCE OF THE SYSTEM:

The system is established and maintained pursuant to 12 U.S.C.4517(d), 5 U.S.C. App. 3, and 5 U.S.C. 301.

PURPOSE(S):

The purpose of this system of records is to maintain information relevant to complaints received by FHFA-OIG and collected as part of investigations conducted by FHFA-OIG's Investigations Division and/or evaluations conducted by FHFA-OIG's Evaluations Division.

ROUTINE USES OF RECORDS MAINTAINED IN THE SYSTEM, INCLUDING CATEGORIES OF USERS AND THE PURPOSES OF SUCH USES:

These records may be used to:

(1) Disclose pertinent information to appropriate Federal, foreign, State, local, Tribal or other public authorities or self-regulatory organizations responsible for investigating or prosecuting the violations of, or for enforcing or implementing, a statute, rule, regulation, order, or license, where the disclosing agency becomes aware of an indication of a violation or potential violation of civil or criminal law or regulation;

(2) Disclose information to a court, magistrate, or administrative tribunal in the course of presenting evidence, including disclosures to opposing counsel or witnesses in the course of civil discovery, litigation, or settlement negotiations, in response to a subpoena, or in connection with criminal law proceedings;

(3) Provide information to a congressional office in response to an inquiry made at the request of the individual to whom the record pertains;

(4) Disclose information to another Federal agency to (a) permit a decision as to access, amendment or correction of records to be made in consultation with or by that agency, or (b) verify the identity of an individual or the accuracy of information submitted by an individual who has requested access to or amendment or correction of records;

(5) Disclose information to the Department of Justice when seeking legal advice, or when (a) the agency or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(6) Disclose information to the appropriate foreign, State, local, Tribal, or other public authority or self-regulatory organization for the purpose of (a) consulting as to the propriety of access to or amendment or correction of information obtained from that authority or organization, or (b) verifying the identity of an individual who has requested access to or amendment or correction of records;

(7) Disclose information to contractors and other agents who have been engaged by FHFA-OIG or one of its components to provide products or services associated with FHFA-OIG's or component's responsibility arising under the FOIA/PA;

(8) Disclose information to the National Archives and Records Administration for use in records management inspections;

(9) Disclose information to appropriate agencies, entities, and persons when (1) FHFA-OIG suspects or has confirmed that the security or confidentiality of information in the system of records has been compromised; (2) FHFA-OIG has determined that as a result of the suspected or confirmed compromise there is a risk of harm to economic or property interests, identity theft or fraud, or harm to the security or integrity of this system or other systems or programs (whether maintained by FHFA-OIG or another agency or entity) that rely upon the compromised information; and (3) the disclosure made to such agencies, entities, and persons is reasonably necessary to assist in connection with FHFA-OIG's efforts to respond to the suspected or confirmed compromise and prevent, minimize, or remedy such harm;

(10) Disclose information to any source, either private or governmental, to the extent necessary to elicit information relevant to an FHFA-OIG audit, evaluation, or investigation;

(11) Disclose information to the Equal Employment Opportunity Commission, Merit Systems Protection Board, arbitrators, and other parties responsible for processing personnel actions or conducting administrative hearings or appeals, or if needed in the performance of other authorized duties;

(12) In situations involving an imminent danger of death or physical injury, disclose relevant information to an individual or individuals who are in danger; and

(13) Disclose information to persons engaged in conducting and reviewing internal and external peer reviews of FHFA-OIG to ensure adequate internal safeguards and management procedures exist within any office that had received law enforcement authorization or to ensure auditing standards applicable to Government audits by the Comptroller General of the United States are applied and followed.

DISCLOSURE TO CONSUMER REPORTING AGENCIES:

None.

POLICIES AND PRACTICE FOR STORING, RETRIEVING, ACCESSING, RETAINING AND DISPOSING OF RECORDS IN THE SYSTEM:

STORAGE:

Paper records and electronic media.

RETRIEVABILITY:

By name, Social Security Number, and/or case number.

SAFEGUARDS:

The records are accessible to FHFA-OIG personnel, all of whom have been the subject of background investigations, on a need-to-know basis. Disclosure of information through remote terminals is restricted through the use of passwords and sign-on protocols, which are periodically changed; these terminals are accessible only to authorized persons. Paper records are maintained in locked facilities and/or cabinets with restricted access.

RETENTION AND DISPOSAL:

Records in this system will be retained in accordance with approved retention schedules, including: (1) Chronological File (N1-485-08-2, Item 5), which provides for annual cut-off and for destruction 5 years after cut-off; (2) Inspector General Community Operational Guidance (N1-485-08-2, Item 16), which provides for annual cut-off and for destruction 3 years after cut-off; (3) Grand Jury (6e) Files (N1-485-08-2, Item 14), which provides for cut-off when case is closed, then retention in a segregated, locked file for 20 years thereafter; (4) Investigation Case Files (N1-485-94-1, Item 3.8), which provides for cutting off inactive files at the end of the fiscal year, and for destruction 10 years after cut-off; (5) Non-FHFA Offices' Correspondence (GRS 23, item 1), which permits destruction after 2 years; and (6) FHFA Offices' Correspondence (N1-485-94-1, Item 3.6), which provides for annual cut-off, and for destruction when no longer needed. Additional approved schedules may apply. Destruction of records shall occur in the manner(s) appropriate to the type of record, such as shredding of paper records and/or deletion of computer records.

SYSTEM MANAGER(S) AND ADDRESS:

Chief Counsel, Office of Inspector General, Federal Housing Finance Agency, 1625 Eye Street NW., Washington, DC 20006.

NOTIFICATION PROCEDURES:

Individuals seeking notification and access to any record contained in this system of records, or seeking to contest its content, may inquire in writing in accordance with instructions appearing at 12 CFR 1202.5. This system of records may contain records that are exempt from the notification, access, and contesting records requirements pursuant to the provisions of 5 U.S.C. 552a(j)(2) and (k)(2).

RECORD ACCESS PROCEDURES:

See “Notification Procedures” above.

CONTESTING RECORD PROCEDURES:

See “Notification Procedures” above.

RECORD SOURCE CATEGORIES:

Some records contained within this system of records are exempt from the requirement that the record source categories be disclosed pursuant to the provisions of 5 U.S.C. 552a(j)(2) and (k)(2).

EXEMPTIONS CLAIMED FOR THE SYSTEM:

Some records contained within this system of records are exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). FHFA is in the process of publishing an updated Privacy Act regulation at 12 CFR Part 1204 that will implement (j)(2) and (k)(2) exemptions to cover FHFA-OIG records. Upon publication of this revised Privacy Act Regulation, these exemptions are hereby incorporated by reference and are an integral part of this SORN.

FHFA-OIG-4

SYSTEM NAME:

FHFA-OIG Hotline Database.

SECURITY CLASSIFICATION:

Sensitive but unclassified.

SYSTEM LOCATION:

This system of records will be maintained on a stand-alone, physically secure FHFA-OIG computer system.

CATEGORIES OF INDIVIDUALS COVERED BY THE SYSTEM:

Complainants who contact the FHFA-OIG Hotline.

CATEGORIES OF RECORDS IN THE SYSTEM:

(1) Correspondence received from Hotline complainants; (2) records created of verbal communications with Hotline complainants; and (3) records used to process Hotline complaints, including information included in FHFA-OIG's other systems of records.

AUTHORITY FOR MAINTENANCE OF THE SYSTEM:

The system is established and maintained pursuant to 12 U.S.C. 4517(d), 5 U.S.C. App. 3, and 5 U.S.C. 301.

PURPOSE(S):

This system consists of complaints received by FHFA-OIG from individuals and their representatives, oversight committees, and others who conduct business with FHFA-OIG, and information concerning efforts to resolve these complaints; it serves as a record of the complaints and the steps taken to resolve them.

ROUTINE USES OF RECORDS MAINTAINED IN THE SYSTEM, INCLUDING CATEGORIES OF USERS AND THE PURPOSES OF SUCH USES:

These records may be used to:

(1) Disclose pertinent information to appropriate Federal, foreign, State, local, Tribal or other public authorities or self-regulatory organizations responsible for investigating or prosecuting the violations of, or for enforcing or implementing, a statute, rule, regulation, order, or license, where the disclosing agency becomes aware of an indication of a violation or potential violation of civil or criminal law or regulation;

(2) Disclose information to a court, magistrate, or administrative tribunal in the course of presenting evidence, including disclosures to opposing counsel or witnesses in the course of civil discovery, litigation, or settlement negotiations, in response to a subpoena, or in connection with criminal law proceedings;

(3) Provide information to a congressional office in response to an inquiry made at the request of the individual to whom the record pertains;

(4) Disclose information to another Federal agency to (a) permit a decision as to access, amendment or correction of records to be made in consultation with or by that agency, or (b) verify the identity of an individual or the accuracy of information submitted by an individual who has requested access to or amendment or correction of records;

(5) Disclose information to the Department of Justice when seeking legal advice, or when (a) the agency or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(6) Disclose information to the appropriate foreign, State, local, Tribal, or other public authority or self-regulatory organization for the purpose of (a) consulting as to the propriety of access to or amendment or correction of information obtained from that authority or organization, or (b) verifying the identity of an individual who has requested access to or amendment or correction of records;

(7) Disclose information to contractors and other agents who have been engaged by FHFA-OIG or one of its components to provide products or services associated with FHFA-OIG's or component's responsibility arising under the FOIA/PA;

(8) Disclose information to the National Archives and Records Administration for use in records management inspections;

(9) Disclose information to appropriate agencies, entities, and persons when (1) FHFA-OIG suspects or has confirmed that the security or confidentiality of information in the system of records has been compromised; (2) FHFA-OIG has determined that as a result of the suspected or confirmed compromise there is a risk of harm to economic or property interests, identity theft or fraud, or harm to the security or integrity of this system or other systems or programs (whether maintained by FHFA-OIG or another agency or entity) that rely upon the compromised information; and (3) the disclosure made to such agencies, entities, and persons is reasonably necessary to assist in connection with FHFA-OIG's efforts to respond to the suspected or confirmed compromise and prevent, minimize, or remedy such harm;

(10) Disclose information to any source, either private or governmental, to the extent necessary to elicit information relevant to an FHFA-OIG audit, evaluation, or investigation;

(11) Disclose information to the Equal Employment Opportunity Commission, Merit Systems Protection Board, arbitrators, and other parties responsible for processing personnel actions or conducting administrative hearings or appeals, or if needed in the performance of other authorized duties;

(12) In situations involving an imminent danger of death or physical injury, disclose relevant information to an individual or individuals who are in danger; and

(13) Disclose information to persons engaged in conducting and reviewing internal and external peer reviews of FHFA-OIG to ensure adequate internal safeguards and management procedures exist within any office that had received law enforcement authorization or to ensure auditing standards applicable to Government audits by the Comptroller General of the United States are applied and followed.

Disclosure to Consumer Reporting Agencies:

None.

Policies and Practice for Storing, Retrieving, Accessing, Retaining and Disposing of Records in the System:

storage:

Paper records and electronic media.

Retrievability:

By name of the correspondent and/or name of the individual to whom the record applies.

Safeguards:

The records are accessible to FHFA-OIG personnel, all of whom have been the subject of background investigations, on a need-to-know basis. Disclosure of information through remote terminals is restricted through the use of passwords and sign-on protocols, which are periodically changed; these terminals are accessible only to authorized persons. Paper records are maintained in locked facilities and/or cabinets with restricted access.

Retention and disposal:

Records in this system will be retained in accordance with approved retention schedules, including: (1) Chronological File (N1-485-08-2, Item 5), which provides for annual cut-off and for destruction 5 years after cut-off; (2) Inspector General Community Operational Guidance (N1-485-08-2, Item 16), which provides for annual cut-off and for destruction 3 years after cut-off; (3) Non-FHFA Offices' Correspondence (GRS 23, item 1), which permits destruction after 2 years; and (4) FHFA Offices' Correspondence (N1-485-94-1, Item 3.6), which provides for annual cut-off, and for destruction when no longer needed. Additional approved schedules may apply. Destruction of records shall occur in the manner(s) appropriate to the type of record, such as shredding of paper records and/or deletion of computer records.

System manager(s) and address:

Chief Counsel, Office of Inspector General, Federal Housing Finance Agency, 1625 Eye Street NW., Washington, DC 20006.

Notification procedures:

Individuals seeking notification and access to any record contained in this system of records, or seeking to contest its content, may inquire in writing in accordance with instructions appearing at 12 CFR 1202.5. This system of records may contain records that are exempt from the notification, access, and contesting records requirements pursuant to the provisions of 5 U.S.C. 552a(j)(2) and (k)(2).

Record access procedures:

See “Notification Procedures” above.

Contesting record procedures:

See “Notification Procedures” above.

Record source categories:

Some records contained within this system of records are exempt from the requirement that the record source categories be disclosed pursuant to the provisions of 5 U.S.C. 552a(j)(2) and (k)(2).

Exemptions claimed for the system:

Some records contained within this system of records are exempt from 5 U.S.C. 552a (c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a (j)(2) and (k)(2). FHFA is in the process of publishing an updated Privacy Act regulation at 12 CFR Part 1204 that will implement (j)(2) and (k)(2) exemptions to cover FHFA-OIG records. Upon publication of this revised Privacy Act Regulation, these exemptions are hereby incorporated by reference and are an integral part of this SORN.

FHFA-OIG-5

System name:

FHFA-OIG Correspondence Database.

Security classification:

Sensitive but unclassified.

System location:

This system of records will be maintained on a stand-alone, physically secure FHFA-OIG computer system.

Categories of individuals covered by the system:

(1) Correspondents; and (2) persons upon whose behalf correspondence was initiated.

Categories of records in the system:

(1) Correspondence received by FHFA-OIG and responses generated thereto; and (2) records used to respond to incoming correspondence, including information included in FHFA-OIG's other systems of records.

Authority for maintenance of the system:

The system is established and maintained pursuant to12 U.S.C. 4517(d), 5 U.S.C. App. 3, and 5 U.S.C. 301.

Purpose(s):

This system consists of correspondence received by FHFA-OIG from individuals and their representatives, oversight committees, and others who conduct business with FHFA-OIG and the responses thereto; it serves as a record of in-coming correspondence and the steps taken to respond thereto.

Routine uses of records maintained in the system, including categories of users and the purposes of such uses:

These records may be used to:

(1) Disclose pertinent information to appropriate Federal, foreign, State, local, Tribal or other public authorities or self-regulatory organizations responsible for investigating or prosecuting the violations of, or for enforcing or implementing, a statute, rule, regulation, order, or license, where the disclosing agency becomes aware of an indication of a violation or potential violation of civil or criminal law or regulation;

(2) Disclose information to a court, magistrate, or administrative tribunal in the course of presenting evidence, including disclosures to opposing counsel or witnesses in the course of civil discovery, litigation, or settlement negotiations, in response to a subpoena, or in connection with criminal law proceedings;

(3) Provide information to a congressional office in response to an inquiry made at the request of the individual to whom the record pertains;

(4) Disclose information to another Federal agency to (a) permit a decision as to access, amendment or correction of records to be made in consultation with or by that agency, or (b) verify the identity of an individual or the accuracy of information submitted by an individual who has requested access to or amendment or correction of records;

(5) Disclose information to the Department of Justice when seeking legal advice, or when (a) the agency or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(6) Disclose information to the appropriate foreign, State, local, Tribal, or other public authority or self-regulatory organization for the purpose of (a) consulting as to the propriety of access to or amendment or correction of information obtained from that authority or organization, or (b) verifying the identity of an individual who has requested access to or amendment or correction of records;

(7) Disclose information to contractors and other agents who have been engaged by FHFA-OIG or one of its components to provide products or services associated with FHFA-OIG's or component's responsibility arising under the FOIA/PA;

(8) Disclose information to the National Archives and Records Administration for use in records management inspections;

(9) Disclose information to appropriate agencies, entities, and persons when (1) FHFA-OIG suspects or has confirmed that the security or confidentiality of information in the system of records has been compromised; (2) FHFA-OIG has determined that as a result of the suspected or confirmed compromise there is a risk of harm to economic or property interests, identity theft or fraud, or harm to the security or integrity of this system or other systems or programs (whether maintained by FHFA-OIG or another agency or entity) that rely upon the compromised information; and (3) the disclosure made to such agencies, entities, and persons is reasonably necessary to assist in connection with FHFA-OIG's efforts to respond to the suspected or confirmed compromise and prevent, minimize, or remedy such harm;

(10) Disclose information to any source, either private or governmental, to the extent necessary to elicit information relevant to an FHFA-OIG audit, evaluation, or investigation;

(11) Disclose information to the Equal Employment Opportunity Commission, Merit Systems Protection Board, arbitrators, and other parties responsible for processing personnel actions or conducting administrative hearings or appeals, or if needed in the performance of other authorized duties;

(12) In situations involving an imminent danger of death or physical injury, disclose relevant information to an individual or individuals who are in danger; and

(13) Disclose information to persons engaged in conducting and reviewing internal and external peer reviews of FHFA-OIG to ensure adequate internal safeguards and management procedures exist within any office that had received law enforcement authorization or to ensure auditing standards applicable to Government audits by the Comptroller General of the United States are applied and followed.

Disclosure to consumer reporting agencies:

None.

Policies and practice for storing, retrieving, accessing, retaining and disposing of records in the system:

storage:

Paper records and electronic media.

Retrievability:

By name of the correspondent and/or name of the individual to whom the record applies.

Safeguards:

The records are accessible to FHFA-OIG personnel, all of whom have been the subject of background investigations, on a need-to-know basis. Disclosure of information through remote terminals is restricted through the use of passwords and sign-on protocols, which are periodically changed; these terminals are accessible only to authorized persons. Paper records are maintained in locked facilities and/or cabinets with restricted access.

Retention and disposal:

Records in this system will be retained in accordance with approved retention schedules, including: (1) Chronological File (N1-485-08-2, Item 5), which provides for annual cut-off and for destruction 5 years after cut-off; (2) Non-FHFA Offices' Correspondence (GRS 23, item 1), which permits destruction after 2 years; (3) FHFA Offices' Correspondence (N1-485-94-1, Item 3.6), which provides for annual cut-off, and for destruction when no longer needed; and (4) Freedom of Information Act Request Files (GRS 14, Item 11a(1)): If access is granted to all requested records, destroy 2 years after reply; if access is denied for technical reasons (failure to pay fee, nonexistent records, etc.), destroy 2 years after reply; if access is denied on substantive grounds at least in part but no appeal, destroy 6 years after reply; if denial is appealed, destroy in accordance with GRS 14, Item 12 for FOIA Request Appeals. Additional approved schedules may apply. Destruction of records shall occur in the manner(s) appropriate to the type of record, such as shredding of paper records and/or deletion of computer records.

System manager(s) and address:

Chief Counsel, Office of Inspector General, Federal Housing Finance Agency, 1625 Eye Street, NW., Washington, DC 20006.

Notification procedures:

Individuals seeking notification and access to any record contained in this system of records, or seeking to contest its content, may inquire in writing in accordance with instructions appearing at 12 CFR 1202.5. This system of records may contain records that are exempt from the notification, access, and contesting records requirements pursuant to the provisions of 5 U.S.C. 552a(j)(2) and (k)(2).

Record access procedures:

See “Notification Procedures” above.

Contesting record procedures:

See “Notification Procedures” above.

Record source categories:

Some records contained within this system of records are exempt from the requirement that the record source categories be disclosed pursuant to the provisions of 5 U.S.C. 552a(j)(2) and (k)(2).

Exemptions claimed for the system:

Some records contained within this system of records are exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). FHFA is in the process of publishing an updated Privacy Act regulation at 12 CFR part 1204 that will implement (j)(2) and (k)(2) exemptions to cover FHFA-OIG records. Upon publication of this revised Privacy Act Regulation, these exemptions are hereby incorporated by reference and are an integral part of this SORN.

Dated: February 15, 2011.
Steven A. Linick,
Inspector General.

[FR Doc. 2011-4624 Filed 3-1-11; 8:45 am]

BILLING CODE 8070-01-P